DEPARTMENT OF COMMERCE

International Trade Administration

[A-427-801, A-428-801, A-475-801, A-588-804, A-412-801]

Ball Bearings and Parts Thereof From France, Germany, Italy, Japan, and the United Kingdom; Final Results of Antidumping Duty Administrative Reviews

AGENCY: Import Administration, International Trade Administration, Department of Commerce.

ACTION: Notice of Final Results of Antidumping Duty Administrative Reviews.

EFFECTIVE DATE: August 30, 2002.

SUMMARY: On April 10, 2002, the Department of Commerce published the preliminary results of the administrative reviews of the antidumping duty orders on ball bearings and parts thereof from France, Germany, Italy, Japan, and the United Kingdom. The reviews cover 40 manufacturers/exporters. The period of review is May 1, 2000, through April 30, 2001.

Based on our analysis of the comments received, we have made changes, including corrections of certain programming and other clerical errors, in the margin calculations. Therefore, the final results differ from the preliminary results. The final weighted-average dumping margins for the reviewed firms are listed below in the section entitled “Final Results of the Reviews.”

FOR FURTHER INFORMATION: Please contact the appropriate case analysts for the various respondent firms as listed below; Office of AD/CVD Enforcement 3, Import Administration, International Trade Administration, U.S. Department of Commerce, Washington, DC 20230; telephone: (202) 482-4733.

France

Dmitry Vladimirov (SKF), Lyn Johnson (Bearing Discount Int./Germany, Rodamientos Rovi/ Venezuela, Rovi-Valencia/Venezuela, Rovi-Marcay/Venezuela, RIRSA/Mexico, DCD/Northern Ireland, EuroLatin Ex. Services/United Kingdom (collectively, Resellers)), Mark Ross, or Richard Rimlinger.

Germany

Dunyako Ahmadu (Paul Mueller, FAG), Thomas Schauer (Torrington Nadellager), Lyn Johnson (Resellers), Mark Ross, or Richard Rimlinger.

Italy

Brian Ellman (SKF), Janis Kalnins (FAG), Lyn Johnson (Resellers), Mark Ross, or Richard Rimlinger.

Japan

Edythe Artman (Nachi), Minoo Hatten (NSK), Lyn Johnson (Koyo, Asahi), Fred Aziz (Nankai Seiko), Janis Kalnins (NPBS), Kristin Case (Isuzu), J. David Dirstine (NTN), George Callen (Osaka Pump, Takeshita), Mark Ross, or Richard Rimlinger.

United Kingdom

Thomas Schauer (RHP/NSK), Dmitry Vladimirov (Barden), Catherine Cartsos (FAG), Mark Ross, or Richard Rimlinger.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2001).

Background

On April 10, 2002, the Department published the preliminary results of the administrative reviews of the antidumping duty orders on ball bearings and parts thereof (BBs) from France, Germany, Italy, Japan, and the United Kingdom (67 FR 17361) (Preliminary Results). The period of review (POR) is May 1, 2000, through April 30, 2001. We invited interested parties to comment on the preliminary results. At the request of certain parties, we held hearings for Japan-specific issues on June 6, 2002, and for Germany-specific issues on June 11, 2002. The Department has conducted these administrative reviews in accordance with section 751 of the Act.

Scope of the Orders

The products covered by these orders, ball bearings, mounted or unmounted, and parts thereof, include all antifriction bearings that employ balls as the rolling element. Imports of these products are classified under the following categories: antifriction balls, BBs with integral shafts, BBs (including radial BBs) and parts thereof, and housed or mounted BB units and parts thereof.

Imports of these products are currently classifiable under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

The HTSUS item numbers are provided for convenience and customs purposes. They are not determinative of the products subject to the order. The written descriptions remain dispositive.

The size or precision grade of a bearing does not influence whether the bearing is covered by an order. These orders cover all the subject bearings and parts thereof (inner race, outer race, cage, rollers, balls, seals, shields, etc.) outlined above with certain limitations. With regard to finished parts, all such parts are included in the scopes of these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scopes of these orders.

For a listing of scope determinations which pertain to the orders, see the “Scope Determinations Memorandum” (Scope Memo) from the Antifriction Bearings Team to Laurie Parkhill, dated April 1, 2002. The Scope Memo is on file in the Central Records Unit (CRU), Main Commerce Building, Room B-099.

Analysis of Comments Received

All issues raised in the case and rebuttal briefs by parties to these concurrent administrative reviews of the orders on ball bearings are addressed in the “Issues and Decision Memorandum” (Decision Memo) from Richard W. Moreland, Deputy Assistant Secretary, to Faryar Shirzad, Assistant Secretary, dated August 23, 2002, which is hereby adopted by this notice. A list of the issues which parties have raised and to which we have responded, all of which are in the Decision Memo, is attached to this notice as an Appendix. This Decision Memo, which is a public document, is on file in the CRU, Main Commerce Building, Room B-099, and is accessible on the Web at http://ia.ita.doc.gov/frn. The paper copy and electronic version of the Decision Memo are identical in content.

Sales Below Cost in the Home Market

The Department disregarded home-market sales that failed the cost-of-production test for the following firms for these final results of reviews:

Country | Company
France | SKF
United Kingdom | NSK Barden
Italy | SKF
Japan | Koyo NSK NTN Nachi Asahi NPBS Nankai Seiko
Germany | Paul Mueller

Changes Since the Preliminary Results

Based on our analysis of comments received, we have made revisions that have changed the results for certain firms. We have corrected programming and clerical errors in the preliminary results, where applicable. Any alleged programming or clerical errors about which we or the parties do not agree are discussed in the relevant sections of the Decision Memo, which is accessible on the Web at http://ia.ita.doc.gov/frn and is on file in the CRU, Room B-099.

Final Results of Reviews

We determine that the following percentage weighted-average margins on BBs exist for the period May 1, 2000, through April 30, 2001:

Company | Margin (percent)
FRANCE
SKF France S.A. and Sarma | 8.51
Bearings Discount International GmbH | 66.18
Rodamientos Rovi | (²)
Rovi-Valencia | (²)
Rovi-Marcay | (²)
Representaciones Industriales Rodriguez S.A. | 66.18
DCD | 66.18
EuroLatin Export Services, Ltd. | (²)
GERMANY
FAG Kugelfischer Georg Schaefer AG | 0.34
Torrington Nadellager GmbH | 1.22
Bearings Discount International GmbH | 70.41
Paul Mueller Industrie GmbH & Co. KG | 0.04
Rodamientos Rovi | (²)
Rovi-Valencia | (²)
Rovi-Marcay | (²)
Representaciones Industriales Rodriguez S.A. | 70.41
DCD | 70.41
EuroLatin Export Services, Ltd. | (²)
ITALY
FAG Italia S.p.A. | 1.42
SKF Industrie S.p.A. | 3.70
Bearings Discount International GmbH | 68.29
Rodamientos Rovi | (²)
Rovi-Valencia | (²)
Rovi-Marcay | (²)
Representaciones Industriales Rodriguez S.A. | 68.29
DCD | 68.29
EuroLatin Export Services, Ltd. | (²)
JAPAN
Koyo Seiko Co., Ltd. | 7.70
NSK Ltd. | 6.07
NTN Corporation | 9.72
Osaka Pump Co., Ltd. | 0.98
Takeshita Seiko Co., Ltd. | 2.88
Asahi Seiko Co., Ltd. | 2.51
Isuzu Motors Ltd. | 73.55
Nachi-Fujikoshi Corporation | 10.33
Nankai Seiko Co., Ltd. | 0.59
Nippon Pillow BlockSales Co., Ltd. | 3.42
UNITED KINGDOM
NSK Bearings Europe, Ltd. | 16.87
FAG (U.K.) Ltd. | (¹)
The Barden Corporation (U.K.) Ltd. | 3.87
¹ No shipments or sales subject to this review. The deposit rate remains unchanged from the last relevant segment of the proceeding in which the firm had shipments/sales.
² No shipments or sales subject to this review. The firm has no individual rate from any segment of this proceeding.

Resellers

With respect to EuroLatin Export Services Limited, Rodamientos Rovi C.A., Rovi-Maracay, and Rovi-Valencia and the reviews of the antidumping duty orders on BBs from France, Germany, and Italy, we have analyzed their claims that they had no shipments during the POR. We have based our analysis on letters from these respondents indicating that they had no shipments and on our examination of the Customs Service database for imports of entered merchandise involving these respondents. Based upon the record and our methodology of reviewing Customs Service information, subject to the limitations discussed below, we have determined that the respondents at issue had no shipments during the POR, and we have not established margins for use as future cash-deposit rates.

Notwithstanding these respondents' letters reporting that they had made no shipments, in this case it is impossible to establish the accuracy of their statements with certainty from Customs Service data. The Customs information does not necessarily identify whether these resellers were involved in shipments of subject BBs during the POR. Therefore, we are not rescinding the reviews of these parties and we will instruct the Customs Service at the time of liquidation to review all documentation for suspended entries of subject merchandise. If the Customs Service finds that, in fact, any of these “no-shipment” respondents had shipments of subject merchandise during the POR, we will instruct the Customs Service to apply a facts-available rate to such respondents based on the adverse facts-available rate we have determined for BBs from the applicable country of origin (France, Germany, or Italy). See Preliminary Results, 67 FR at 17362, for a description of our determination of these rates.

Assessment Rates

The Department will determine, and the Customs Service shall assess, antidumping duties on all appropriate entries. We will issue appropriate assessment instructions directly to the Customs Service within 15 days of publication of these final results of reviews. In accordance with 19 CFR 351.212(b)(1), we have calculated, whenever possible, an exporter/importer-specific assessment rate or value for subject merchandise.

a. Export Price

With respect to export-price (EP) sales, we divided the total dumping margins (calculated as the difference between normal value (NV) and the EP) for each exporter's importer/customer by the total number of units the exporter sold to that importer/customer. We will direct the Customs Service to assess the resulting per-unit dollar amount against each unit of merchandise on each of that importer's/customer's entries under the relevant order during the review period.

b. Constructed Export Price

For constructed export-price (CEP) sales (sampled and non-sampled), we divided the total dumping margins for the reviewed sales by the total entered value of those reviewed sales for each importer. When an affiliated party acts as an importer for EP sales we have included the applicable EP sales in the assessment-rate calculation. We will direct the Customs Service to assess the resulting percentage margin against the entered customs values for the subject merchandise on each of that importer's entries under the relevant order during the review period (see 19 CFR 351.212(a)).

Cash-Deposit Requirements

To calculate the cash-deposit rate for each respondent (i.e., each exporter and/or manufacturer included in these reviews), we divided the total dumping margins for each company by the total net value of that company's sales of merchandise during the review period subject to each order.

To derive a single deposit rate for each respondent, we weight-averaged the EP and CEP deposit rates (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the deposit rate.

We will direct the Customs Service to collect the resulting percentage deposit rate against the entered customs value of each of the exporter's entries of subject merchandise entered, or withdrawn from warehouse, for consumption on or after the date of publication of this notice. Entries of parts incorporated into finished bearings before sales to an unaffiliated customer in the United States will receive the respondent's deposit rate applicable to the order.

Furthermore, the following deposit requirements will be effective upon publication of this notice of final results of administrative reviews for all shipments of ball bearings entered, or withdrawn from warehouse, for consumption on or after the date of publication, as provided by section 751(a)(1) of the Act: (1) The cash-deposit rates for the reviewed companies will be the rates shown above except that, for firms whose weighted-average margins are less than 0.5 percent and, therefore, de minimis, the Department will not require a deposit of estimated antidumping duties; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; and (4) the cash-deposit rate for all other manufacturers or exporters will continue to be the “All Others” rate for the relevant order made effective by the final results of review published on July 26, 1993 (see Antifriction Bearings (Other Than Tapered Roller Bearings) and Parts Thereof From France, et al: Final Results of Antidumping Duty Administrative Reviews and Revocation in Part of an Antidumping Duty Order, 58 FR 39729 (July 26, 1993), and, for BBs from Italy, see Antifriction Bearings (Other Than Tapered Roller Bearings) and Parts Thereof From France, et al.: Final Results of Antidumping Duty Administrative Reviews, Partial Termination of Administrative Reviews, and Revocation in Part of Antidumping Duty Orders, 61 FR 66472 (December 17, 1996)). These “All Others” rates are the “All Others” rates from the relevant LTFV investigation.

These deposit requirements shall remain in effect until publication of the final results of the next administrative reviews.

This notice serves as a reminder to importers of their responsibility under 19 CFR 351.402(f) to file a certificate regarding the reimbursement of antidumping duties prior to liquidation of the relevant entries during these review periods. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305. Timely notification of the return or destruction of APO materials or conversion to judicial protective order is hereby requested. Failure to comply with the regulations and the terms of an APO are sanctionable violations.

We are issuing and publishing these determinations and notice in accordance with sections 751(a)(1) and 777(i) of the Act and 19 CFR 351.210(c).

Dated: August 23, 2002.
Faryar Shirzad,
Assistant Secretary for Import Administration.

Appendix

Comments and Responses

1. Facts Available

2. Margin Calculation (Zeroing of Positive Margins)

3. Export Price/Constructed Export Price

4. Price Adjustments

A. Commissions

B. Billing Adjustments

C. Credit Expenses

D. Direct and Indirect Selling Expenses

E. Others

5. Arm's-Length Test and Sales to Affiliated Parties

6. Sample Sales, Prototype Sales, and Sales Outside the Ordinary Course of Trade

7. Cost of Production and Constructed Value

A. Profit for CV

B. Affiliated-Party Inputs

C. Depreciation of Idle Assets

D. Loss on Marketable Securities

E. Others

8. Packing and Movement Expenses

9. Discounts and Rebates

10. Miscellaneous

A. Improper Service

B. Consignment Sales

C. Model Matching

D. Clerical Errors

E. Others

[FR Doc. 02-22254 Filed 8-29-02; 8:45 am]

BILLING CODE 3510-DS-P